DEPARTMENT OF ENERGY

Federal Energy Regulatory Commission

Combined Notice of Filings #1

Take notice that the Commission received the following electric rate filings:

Docket Numbers: ER18-2317-004.

Applicants: Meadow Lake Wind Farm V LLC.

Description: Compliance filing: Informational Filing Pursuant to Schedule 2 of the PJM OATT & Request for Waiver to be effective N/A.

Filed Date: 10/6/20.

Accession Number: 20201006-5101.

Comments Due: 5 p.m. ET 10/27/20.

Docket Numbers: ER19-468-003.

Applicants: California Independent System Operator Corporation.

Description: Compliance filing: 2020-10-07 Order No. 841—Third Compliance Filing to be effective 12/3/2019.

Filed Date: 10/7/20.

Accession Number: 20201007-5082.

Comments Due: 5 p.m. ET 10/28/20.

Docket Numbers: ER19-585-002.

Applicants: Quilt Block Wind Farm LLC.

Description: Compliance filing: Informational Filing Pursuant to Schedule 2 of the MISO OATT & Waiver Request to be effective N/A.

Filed Date: 10/6/20.

Accession Number: 20201006-5099.

Comments Due: 5 p.m. ET 10/27/20.

Docket Numbers: ER20-1802-000.

Applicants: Entergy Louisiana, LLC.

Description: Entergy Louisiana, LLC submits tariff filing per 35.19a(b): Refund Report_SRMPA to be effective N/A.

Filed Date: 10/7/20.

Accession Number: 20201007-5058.

Comments Due: 5 p.m. ET 10/28/20.

Docket Numbers: ER21-35-000.

Applicants: Tri-State Generation and Transmission Association, Inc.

Description: § 205(d) Rate Filing: Amendment to Tri-State Rate Schedule FERC No. 244 to be effective 10/8/2020.

Filed Date: 10/7/20.

Accession Number: 20201007-5002.

Comments Due: 5 p.m. ET 10/28/20.

Docket Numbers: ER21-36-000.

Applicants: PJM Interconnection, L.L.C.

Description: § 205(d) Rate Filing: Original WMPA, Service Agreement No. 5820; Queue No. AF2-290 to be effective 9/9/2020.

Filed Date: 10/7/20.

Accession Number: 20201007-5003.

Comments Due: 5 p.m. ET 10/28/20.

Docket Numbers: ER21-37-000.

Applicants: Techren Solar II LLC.

Description: Tariff Cancellation: Cancellation of Rate Schedule Tariff to be effective 10/8/2020.

Filed Date: 10/7/20.

Accession Number: 20201007-5041.

Comments Due: 5 p.m. ET 10/19/20.

Docket Numbers: ER21-38-000.

Applicants: AEP Texas Inc.

Description: § 205(d) Rate Filing: AEPTX-Starr Solar Ranch Generation Interconnection Agreement to be effective 10/1/2020.

Filed Date: 10/7/20.

Accession Number: 20201007-5051.

Comments Due: 5 p.m. ET 10/28/20.

Docket Numbers: ER21-39-000.

Applicants: Wabash Valley Power Association, Inc.

Description: § 205(d) Rate Filing: Compliance Filing of Amended Distributed Generation Policy D-11 to be effective 12/7/2020.

Filed Date: 10/7/20.

Accession Number: 20201007-5054.

Comments Due: 5 p.m. ET 10/28/20.

Docket Numbers: ER21-40-000.

Applicants: ConocoPhillips Company.

Description: Compliance filing: WECC Cost Justification Filing to be effective N/A.

Filed Date: 10/7/20.

Accession Number: 20201007-5065.

Comments Due: 5 p.m. ET 10/28/20.

Docket Numbers: ER21-41-000.

Applicants: La Joya Wind, LLC.

Description: Baseline eTariff Filing: Application for Market-Based Rate Authorization, Request for Related Waivers to be effective 11/1/2020.

Filed Date: 10/7/20.

Accession Number: 20201007-5076.

Comments Due: 5 p.m. ET 10/28/20.

Docket Numbers: ER21-42-000.

Applicants: Tenaska Power Services Co.

Description: Compliance filing: Filing re Certain Spot Sales at Prices Exceeding West-Wide Soft Cap—Aug. 2020 to be effective N/A.

Filed Date: 10/7/20.

Accession Number: 20201007-5079.

Comments Due: 5 p.m. ET 10/28/20.

Docket Numbers: ER21-43-000.

Applicants: Exelon Generation Company, LLC.

Description: Compliance filing: WECC Soft Offer Cap to be effective N/A.

Filed Date: 10/7/20.

Accession Number: 20201007-5081.

Comments Due: 5 p.m. ET 10/28/20.

Docket Numbers: ER21-44-000.

Applicants: Altavista Solar, LLC.

Description: Baseline eTariff Filing: Market-Based Rate Tariff Application to be effective 10/15/2020.

Filed Date: 10/7/20.

Accession Number: 20201007-5083.

Comments Due: 5 p.m. ET 10/28/20.

Docket Numbers: ER21-45-000.

Applicants: Calvert Cliffs Nuclear Power Plant, LLC.

Description: Compliance filing: Baseline Filing to be effective 12/6/2020.

Filed Date: 10/7/20.

Accession Number: 20201007-5085.

Comments Due: 5 p.m. ET 10/28/20.

Docket Numbers: ER21-45-001.

Applicants: Calvert Cliffs Nuclear Power Plant, LLC.

Description: Compliance filing: Informational Filing Regarding Transfer of Ownership to be effective N/A.

Filed Date: 10/7/20.

Accession Number: 20201007-5110.

Comments Due: 5 p.m. ET 10/28/20.

Docket Numbers: ER21-46-000.

Applicants: Mercuria Energy America, LLC.

Description: Compliance filing: Explanation for Bilateral Spot Sales in the West to be effective N/A.

Filed Date: 10/7/20.

Accession Number: 20201007-5088.

Comments Due: 5 p.m. ET 10/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2020.
Nathaniel J. Davis, Sr.,
Deputy Secretary.

[FR Doc. 2020-22662 Filed 10-13-20; 8:45 am]

BILLING CODE 6717-01-P